DEPARTMENT OF DEFENSE

Department of the Army; Corps of Engineers

Intent To Prepare a Draft Environmental Impact Statement for the North Branch Ecorse Creek, Flood Risk Management General Reevaluation Study, Wayne County, MI

AGENCY: Department of the Army, U.S. Army Corps of Engineers, DoD.

ACTION: Notice of Intent.

SUMMARY: The U.S. Army Corps of Engineers (USACE), Detroit District, is issuing this Notice of Intent (NOI) to prepare a Draft Environmental Impact Statement (EIS) for flood risk management measures along the North Branch Ecorse Creek (NBEC) in Wayne County, MI. The Draft EIS is being prepared in conjunction with a General Reevaluation Report (GRR) of the NBEC to reevaluate the feasibility of providing flood risk management measures. The GRR/EIS is being completed in partnership with Wayne County, MI. The Draft EIS will address potential environmental impacts of the construction, operation, and maintenance of a number of structural and non-structural alternatives that will be evaluated as part of the GRR study.

DATES: A public meeting on the study will be held on October 28, 2010 at 7 p.m.

ADDRESSES: The meeting will be held at the Canfield Community Center, 1801 N. Beech Daly Road, Dearborn Heights, MI.

FOR FURTHER INFORMATION CONTACT: For information or questions concerning the Draft EIS please contact Ms. Florence Bissell, Environmental Analysis Branch, U.S. Army Corps of Engineers, Detroit District, 477 Michigan Avenue, P.O. Box 1027, Detroit, MI 48231-1027, at (313) 226-3510 or at florence.k.bissell@usace.army.mil.

SUPPLEMENTARY INFORMATION:

Background: The NBEC has experienced severe flooding over the last 40 years, resulting in property damage, sewage back-ups, road closures and other impacts that have threatened or resulted in lost property, environmental and health degradation, and lost economic value. Severe flooding in 2000 and 2004 negatively impacted over 9,000 individual properties. USACE Detroit District, and Wayne County, MI acting as the non-federal sponsor, have formed a partnership to reevaluate the flooding issues along the NBEC. The GRR/EIS, will update a feasibility study and EIS completed by USACE in 1988. The purpose of this GRR/EIS is reanalysis of the federal interest in developing flood risk management measures on the NBEC. The analysis will include reformulation of the authorized plan from the 1988 study for applicability. The GRR/EIS will incorporate a review of developments in the floodplain during the last 22 years, consideration of changing needs of the local communities, and current environmental conditions. When complete, the GRR/EIS will recommend if flood mitigation measures should occur with federal assistance. Federal funding for the GRR/EIS phase originates from American Recovery and Reinvestment Act funds, which requires the GRR/EIS to be developed on an accelerated schedule.

Project Authority: The GRR/EIS is being completed based on authorization by Section 102 of the River and Harbor Act of 1966 (Pub. L. 89-789). The original study Feasibility Report and Environmental Impact Statement for Flood Protection in the Ecorse Creek Drainage Basin, Wayne County, Michigan, 1987 (Revised 1988) recommended the development of a retention basin as the selected plan. Construction of the selected plan from the 1988 feasibility study was further authorized by Section 101(a) (14) of the Water Resources Development Act (WRDA) of 1990. Construction never occurred. Project authorization was extended in Section 3179 of the WRDA of 2007 to conduct the GRR.

Project Alternatives: A number of flood risk management alternatives will be evaluated as part of the GRR/EIS including retention basins, stream widening and restoration, flood walls and levees, along with non-structural measures such as management plans, warning systems and property acquisition.

Draft EIS Scoping Process: The scoping process for public input will involve Federal, State, and local agencies, along with affected Indian tribes, other interested parties and entities. Coordination with natural resources and environmental agencies will be conducted under the Fish and Wildlife Coordination Act, Endangered Species Act, Clean Water Act, Clean Air Act, and the National Historic Preservation Act. A public meeting will be held (see DATES) to include discussion of environmental issues associated with potential flood risk management alternatives.

Issues to be considered during the development of the Draft EIS and public review and input process include: aesthetics, dredged material disposal, water quality, air and noise quality, hazardous, toxic and radiological waste, threatened and endangered species, environmental justice, wetlands, historic properties, recreation, cumulative impacts, natural resource mitigation and other issues that may affect public health and welfare. It is estimated the Draft EIS will be available for public review and comment in late 2011.

John M. Niemiec,
Project Manager.

[FR Doc. 2010-23934 Filed 9-23-10; 8:45 am]

BILLING CODE 3720-58-P